DEPARTMENT OF HOMELAND SECURITY

Federal Emergency Management Agency

44 CFR Part 67

[Docket No. FEMA-B-1010]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before January 8, 2009.

ADDRESSES: The corresponding preliminary Flood Insurance Rate Map (FIRM) for the proposed BFEs for each community are available for inspection at the community's map repository. The respective addresses are listed in the table below.

You may submit comments, identified by Docket No. FEMA-B-1010, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Colbert County, Alabama, and Incorporated Areas
Pond Creek | At Wilson Dam Highway | +515 | +514 | City of Muscle Shoals, Colbert County.
| 0.5 mile downstream of Pepi Drive | +516 | +515
Sink Hole 10 | South of 6th Street between Elledge Lane and Industrial Drive | +495 | +493 | City of Muscle Shoals.
Sink Hole 10A | At Oak Villa Drive approximately 550 feet west of Elledge Lane | +495 | +494 | City of Muscle Shoals.
Sink Hole 10B | Bordered by Oak Villa Lane to the south, Oak Villa Drive to the east and Cypress Street to the north | +495 | +494 | City of Muscle Shoals.
Sink Hole 11 | North of 6th Street between Laurel Oak Drive and Brooke Drive | +495 | +498 | City of Muscle Shoals.
Tennessee River | At the U.S. 72 crossing | None | +431 | Colbert County.
| At the border of Lauderdale, Colbert, and Lawrence Counties | None | +509
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Muscle Shoals
Maps are available for inspection at 2010 East Avalon Avenue, Muscle Shoals, AL 35662.
Colbert County
Maps are available for inspection at 201 N. Main Street, Tuscumbia, AL 35674.
Lewis & Clark County, Montana, and Incorporated Areas
Silver Creek | Approximately 100 feet upstream of Interstate 15 | None | +3700 | Unincorporated Areas of Lewis And Clark County.
| At Applegate Drive | +3764 | +3765
Tenmile Creek | Approximately 3000 feet upstream of East Sierra Road | +3706 | +3708 | Unincorporated Areas of Lewis And Clark County, City of Helena.
| Approximately 50 feet downstream of Blue Cloud Bridge | None | +4093
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Helena
Maps are available for inspection at 316 N. Park Ave., Helena, MT 59623.
Unincorporated Areas of Lewis And Clark County
Maps are available for inspection at 221 Breckenridge St., Helena, MT 59623.
Merrick County, Nebraska, and Incorporated Areas
Platte River | Approximately 0.50 mile downstream of Union Pacific Railroad | None | +1685 | Unincorporated Areas of Merrick County.
| Approximately 0.68 mile upstream of State Highway 14 | None | +1711
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Merrick County
Maps are available for inspection at 1510 18th Street, Central City, NE 68826.
Ashe County, North Carolina, and Incorporated Areas
Bear Creek | Approximately 600 feet upstream of the confluence with South Fork New River | +2676 | +2677 | Unincorporated Areas of Ashe County.
| Approximately 1.8 miles upstream of NC 16 Highway | None | +2826
Beaver Creek | Approximately 1,500 feet downstream of Mash Stuart Road (State Road 1199) | +2871 | +2872 | Unincorporated Areas of Ashe County, Town of West Jefferson.
| Approximately 350 feet upstream of Earl Ray Road (State Road 1144) | None | +3120
Big Horse Creek | Approximately 550 feet upstream of the confluence with North Fork New River | None | +2645 | Unincorporated Areas of Ashe County, Town of Lansing.
| Approximately 0.6 mile upstream of Farmers Store Road (State Road 1360) | None | +3642
Big Laurel Creek | At the confluence with North Fork New River | +2815 | +2814 | Unincorporated Areas of Ashe County.
| Approximately 40 feet downstream of Denny Road (State Road 1326) | None | +3232
Big Windfall Branch | At the confluence with Big Horse Creek | None | +2707 | Unincorporated Areas of Ashe County.
| Approximately 300 feet downstream of Big Windfall Road (State Road 1353) | None | +3039
Brush Fork | Approximately 500 feet upstream of the confluence with North Fork New River | None | +3029 | Unincorporated Areas of Ashe County.
| Approximately 75 feet upstream of West Brushy Fork Road (State Road 1302) | None | +3155
Buffalo Creek | At the second crossing of Warrensville Drive (State Road 1507) | None | +2687 | Unincorporated Areas of Ashe County.
| Approximately 0.7 mile upstream of Perry Road | None | +3046
Cabbage Creek | Approximately 100 feet upstream of the confluence with North Fork New River | +2896 | +2897 | Unincorporated Areas of Ashe County.
| Approximately 360 feet upstream of Cabbage Creek Road (State Road 1307) | None | +2963
Cabbage Creek Tributary | At the confluence with Cabbage Creek | None | +2942 | Unincorporated Areas of Ashe County.
| Approximately 1,500 feet upstream of the confluence with Cabbage Creek | None | +2959
Call Creek | At the confluence with Old Field Creek | None | +2888 | Unincorporated Areas of Ashe County.
| Approximately 200 feet downstream of East Mill Creek Road (State Road 1112) | None | +3055
Cole Branch | Approximately 1.1 miles upstream of the confluence with Beaver Creek | None | +3045 | Town of West Jefferson.
| Approximately 1.2 miles upstream of the confluence with Beaver Creek | None | +3071
Cranberry Creek | Approximately 950 feet upstream of the confluence with South Fork New River | None | +2565 | Unincorporated Areas of Ashe County.
| Approximately 1.2 miles upstream of NC 88 Highway E | None | +2743
Cranberry Creek West | Approximately 630 feet upstream of the confluence with South Fork New River | +2898 | +2899 | Unincorporated Areas of Ashe County.
| Approximately 1,000 feet upstream of Cranberry Springs Road (State Road 1100) | None | +3029
East Fork | At the confluence with Pine Swamp Creek | None | +2910 | Unincorporated Areas of Ashe County.
| Approximately 0.8 mile upstream of Idlewild Road (State Road 1003) | None | +3057
Elk Creek (into South Fork New River) | Approximately 150 feet upstream of the confluence with South Fork New River | None | +2955 | Unincorporated Areas of Ashe County.
| Approximately 1.3 miles upstream of Preacher Blackburn Road (State Road 1117) | None | +3071
Ezra Fork Creek | Approximately 1,560 feet upstream of U.S. Highway 221 | None | +2818 | Unincorporated Areas of Ashe County.
| Approximately 0.5 mile upstream of U.S. 221 Highway | None | +2838
Fees Branch | At the confluence with Helton Creek | None | +2890 | Unincorporated Areas of Ashe County.
| Approximately 500 feet upstream of Fees Branch Road (State Road 1372) | None | +2948
Gap Creek | Approximately 1,700 feet upstream of the confluence with South Fork New River | +2862 | +2863 | Unincorporated Areas of Ashe County.
| The Ashe/Watauga County boundary | None | +2952
Grassy Creek | At the confluence with New River | None | +2483 | Unincorporated Areas of Ashe County.
| Approximately 1.1 miles upstream of Old NC 16 Highway (State Road 1573) | None | +2679
Greer Branch | At the confluence with South Fork Little Horse Creek | None | +2905 | Unincorporated Areas of Ashe County.
| Approximately 0.6 mile upstream of Greer Hollow Road (State Road 1333) | None | +3037
Helton Creek | Approximately 1,200 feet upstream of the confluence with North Fork New River | None | +2556 | Unincorporated Areas of Ashe County.
| Approximately 0.9 mile upstream of Fees Branch Road (State Road 1372) | None | +2962
Helton Creek Tributary 1 | At the confluence with Helton Creek | None | +2777 | Unincorporated Areas of Ashe County.
| Approximately 0.5 mile upstream of the confluence of Helton Creek Tributary 1A | None | +2864
Helton Creek Tributary 1A | At the confluence with Helton Creek Tributary 1 | None | +2816 | Unincorporated Areas of Ashe County.
| Approximately 1,320 feet upstream of Spencer Branch Road (State Road 1373) | None | +2848
Jerd Branch | At the confluence with Helton Creek | None | +2805 | Unincorporated Areas of Ashe County.
| Approximately 1,093 feet upstream of NC Highway 194 | None | +2884
Jones Branch | At the confluence with Little Helton Creek | None | +2723 | Unincorporated Areas of Ashe County.
| At the Virginia/North Carolina state boundary | None | +2758
Little Buffalo Creek | At the confluence with Buffalo Creek | None | +2782 | Unincorporated Areas of Ashe County, Town of West Jefferson.
| Approximately 0.8 mile upstream of the confluence with Buffalo Creek | None | +2981
Little Buffalo Creek Tributary 1 | At the confluence with Little Buffalo Creek | None | +2921 | Unincorporated Areas of Ashe County, Town of West Jefferson.
| Approximately 170 feet downstream of South Main Street | None | +2968
Little Helton Creek | At the confluence with Helton Creek | None | +2636 | Unincorporated Areas of Ashe County.
| Approximately 200 feet upstream of the Virginia/North Carolina state boundary | None | +2757
Little Helton Creek Tributary 1 | At the confluence with Little Helton Creek | None | +2691 | Unincorporated Areas of Ashe County.
| Approximately 0.6 mile upstream of the confluence with Little Helton Creek | None | +2750
Little Helton Creek Tributary 2 | At the confluence with Little Helton Creek | None | +2751 | Unincorporated Areas of Ashe County.
| Approximately 0.4 mile upstream of the confluence with Little Helton Creek | None | +2798
Little Horse Creek | At the confluence with Big Horse Creek | None | +2665 | Unincorporated Areas of Ashe County.
| Approximately 1.1 miles upstream of Little Horse Creek Road (State Road 1324) | None | +3033
Little Laurel Creek | At the confluence with Big Laurel Creek | None | +2843 | Unincorporated Areas of Ashe County.
| Approximately 880 feet upstream of Little Laurel Road (State Road 1310) | None | +3323
Little Naked Creek | At the confluence with Naked Creek | +2685 | +2686 | Unincorporated Areas of Ashe County.
| Approximately 1,490 feet upstream of East Landing Drive | None | +2712
Little Peak Creek | At the confluence with Peak Creek | None | +2608 | Unincorporated Areas of Ashe County.
| Approximately 0.5 mile upstream of Little Peak Creek Road | None | +2690
Little Phoenix Creek | Approximately 250 feet upstream of the confluence with North Fork New River | None | +2604 | Unincorporated Areas of Ashe County.
| Approximately 0.9 mile upstream of the confluence of Little Phoenix Creek Tributary | None | +2836
Little Phoenix Creek Tributary | At the confluence with Little Phoenix Creek | None | +2727 | Unincorporated Areas of Ashe County.
| Approximately 0.4 mile upstream of Old NC Highway 16 (State Road 1573) | None | +2871
Little Piney Creek | At the confluence with Piney Creek | None | +2634 | Unincorporated Areas of Ashe County.
| Approximately 1,210 feet upstream of Piney Creek Road (State Road 1517) | None | +2679
Long Branch | At the confluence with Little Helton Creek | None | +2643 | Unincorporated Areas of Ashe County.
| Approximately 0.4 mile upstream of Jim Duvall Road (State Road 1528) | None | +2715
Long Branch South | At the confluence with North Fork New River | +2575 | +2577 | Unincorporated Areas of Ashe County.
| Approximately 500 feet upstream of Shatley Springs Road (State Road 1574) | None | +2648
Middle Fork Little Horse Creek | At the confluence with Little Horse Creek | None | +2936 | Unincorporated Areas of Ashe County.
| Approximately 0.9 mile upstream of East Big Springs Road (State Road 1319) | None | +3082
Middle Fork Little Horse Creek Tributary | At the confluence with Middle Fork Little Horse Creek | None | +2995 | Unincorporated Areas of Ashe County.
| Approximately 0.4 mile upstream of the confluence with Middle Fork Little Horse Creek | None | +3049
Mill Creek | Approximately 300 feet upstream of the confluence with North Fork New River | None | +2738 | Unincorporated Areas of Ashe County.
| Approximately 1.7 miles upstream of West Mill Creek Road (State Road 1340) | None | +2935
Mill Creek (South) | Approximately 450 feet upstream of the confluence with South Fork New River | None | +2906 | Unincorporated Areas of Ashe County.
| Approximately 365 feet upstream of Mill Creek Road (State Road 1109) | None | +3051
Naked Creek | Approximately 0.5 mile upstream of the confluence with South Fork New River | +2666 | +2665 | Unincorporated Areas of Ashe County, Town of Jefferson.
| Approximately 400 feet upstream of South Main Street | None | +2920
Naked Creek Tributary 2 | At the confluence with Naked Creek | None | +2908 | Town of Jefferson.
| Approximately 1,190 feet upstream of West Main Street | None | +2940
Nathans Creek | Approximately 250 feet upstream of the confluence with South Fork New River | None | +2579 | Unincorporated Areas of Ashe County.
| Approximately 550 feet upstream of U.S. 221 Highway | None | +2718
New River | Approximately 500 feet downstream of the Ashe/Alleghany County boundary | None | +2480 | Unincorporated Areas of Ashe County.
| At the confluence of the North Fork New River and South Fork New River | None | +2487
North Fork New River | At the confluence with New River and South Fork New River | None | +2487 | Unincorporated Areas of Ashe County.
| Approximately 50 feet downstream of West Peak Road (State Road 1119) | +3021 | +3023
North Fork New River Tributary 1 | At the confluence with North Fork New River | +2506 | +2503 | Unincorporated Areas of Ashe County.
| Approximately 0.4 mile upstream of the confluence with North Fork New River | None | +2557
Obids Creek | Approximately 350 feet upstream of the confluence with South Fork New River | None | +2718 | Unincorporated Areas of Ashe County.
| Approximately 250 feet upstream of Idlewild Road (State Road 1003) | None | +2874
Old Field Branch | At the confluence with Big Horse Creek | None | +2660 | Unincorporated Areas of Ashe County, Town of Lansing.
| Approximately 0.5 mile upstream of Glenn King Road (State Road 1519) | None | +2853
Old Field Creek | Approximately 1,400 feet upstream of the confluence with South Fork New River | None | +2874 | Unincorporated Areas of Ashe County.
| Approximately 0.7 mile upstream of Mulatto Mountain Road (State Road 1145) | None | +3048
Old Field Creek (North) | Approximately 300 feet upstream of the confluence with North Fork New River | +2565 | +2566 | Unincorporated Areas of Ashe County.
| Approximately 0.5 mile upstream of the confluence with North Fork New River | None | +2693
Peak Creek | Approximately 1,500 feet upstream of the confluence with South Fork New River | None | +2604 | Unincorporated Areas of Ashe County.
| Approximately 1.2 miles upstream of NC Highway 88 | None | +2866
Pine Swamp Creek | Approximately 850 feet upstream of the confluence with South Fork New River | None | +2837 | Unincorporated Areas of Ashe County.
| Approximately 0.7 mile upstream of Idlewild Road (State Road 1003) | None | +3010
Piney Creek | Approximately 250 feet upstream of the confluence with North Fork New River | +2625 | +2624 | Unincorporated Areas of Ashe County.
| Approximately 150 feet upstream of Piney Creek Road (State Road 1517) | None | +2685
Rich Hill Creek | At the confluence with North Fork New River | +2800 | +2799 | Unincorporated Areas of Ashe County.
| Approximately 1.1 miles upstream of NC Highway 88 | None | +2920
Roan Creek | Approximately 650 feet upstream of the confluence with South Fork New River | None | +2666 | Unincorporated Areas of Ashe County.
| Approximately 340 feet upstream of Earl Sheets Road (State Road 1625) | None | +2919
Roaring Fork | At the confluence with Big Laurel Creek | None | +2917 | Unincorporated Areas of Ashe County.
| Approximately 0.4 mile upstream of Roaring Fork Road (State Road 1320) | None | +3078
Rock Creek | Approximately 120 feet upstream of NC Highway 88 | None | +2942 | Unincorporated Areas of Ashe County.
| Approximately 1.4 miles upstream of NC 88 Highway | None | +3125
Shippy Branch | At the confluence with Little Helton Creek | None | +2730 | Unincorporated Areas of Ashe County.
| At the Virginia/North Carolina state boundary | None | +2774
Silas Creek | At the confluence with North Fork New River | +2580 | +2583 | Unincorporated Areas of Ashe County.
| Approximately 1.0 mile upstream of the confluence of Silas Creek Tributary 2 | None | +2795
Silas Creek Tributary 1 | At the confluence with Silas Creek | None | +2691 | Unincorporated Areas of Ashe County.
| Approximately 1,376 feet upstream of the confluence with Silas Creek | None | +2782
Silas Creek Tributary 2 | At the confluence with Silas Creek | None | +2709 | Unincorporated Areas of Ashe County.
| Approximately 1,516 feet upstream of the confluence with Silas Creek | None | +2805
South Beaver Creek | Approximately 400 feet upstream of the confluence with Beaver Creek | None | +2792 | Unincorporated Areas of Ashe County.
| Approximately 1,800 feet upstream of Lakeside Drive | None | +2941
South Fork Little Horse Creek | At the confluence with Little Horse Creek | None | +2769 | Unincorporated Areas of Ashe County.
| Approximately 785 feet upstream of Jack Jones Road (State Road 1332) | None | +2933
South Fork New River | At the confluence with New River and North Fork New River | None | +2487 | Unincorporated Areas of Ashe County.
| Approximately 2.3 miles upstream of Kings Creek Road (State Road 1308) | +2525 | +2524
South Fork New River Tributary 3 | Approximately 350 feet upstream of the confluence with South Fork New River | None | +2685 | Unincorporated Areas of Ashe County.
| Approximately 1,200 feet upstream of Claude Mash Road (State Road 1158) | None | +2844
South Fork New River Tributary 4 | Approximately 400 feet upstream of the confluence with South Fork New River | None | +2815 | Unincorporated Areas of Ashe County.
| Approximately 0.8 mile upstream of Lower Nettle Knob Road (State Road 1181) | None | +2894
Stagg Creek | Approximately 350 feet upstream of the confluence with North Fork New River | None | +2702 | Unincorporated Areas of Ashe County.
| Approximately 1.4 miles upstream of Staggs Creek Road (State Road 1342) | None | +2861
Three Top Creek | At the confluence with North Fork New River | +2857 | +2858 | Unincorporated Areas of Ashe County.
| Approximately 1,830 feet upstream of Bald Fork Road | None | +3273
West Fork | At the confluence with Pine Swamp Creek | None | +2862 | Unincorporated Areas of Ashe County.
| Approximately 990 feet upstream of Creekside Drive | None | +3124
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Jefferson
Maps are available for inspection at Jefferson Town Hall, 302 East Main Street, Jefferson, NC.
Town of Lansing
Maps are available for inspection at Lansing Town Hall, 173 B Street, Lansing, NC.
Town of West Jefferson
Maps are available for inspection at West Jefferson Town Hall, 01 South Jefferson Avenue, West Jefferson, NC.
Unincorporated Areas of Ashe County
Maps are available for inspection at Ashe County Building Inspector's Office, 150 Government Circle, Suite 2400, Jefferson, NC.
Hertford County, North Carolina, and Incorporated Areas
Buckhorn Creek | At the confluence with Chowan River | None | +12 | Town of Como, Unincorporated Areas of Hertford County.
| Approximately 1.1 miles upstream of Buckhorn Church Road (State Road 1316) | None | +59
Chinkapin Swamp | At the confluence with Barbeque Swamp and Chinkapin Creek | None | +13 | Unincorporated Areas of Hertford County.
| Approximately 0.9 mile upstream of the confluence with Chinkapin Creek and Barbeque Swamp | None | +16
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Como
Maps are available for inspection at Como Town Clerk's Residence, 633 Woodland Drive, Murfreesboro, NC.
Unincorporated Areas of Hertford County
Maps are available for inspection at Hertford County Planning Department, 704 North King Street, Winton, NC.
Yakima County, Washington, and Incorporated Areas
Naches River | Approximately 300 feet downstream of I-82 | None | +1185 | Unincorporated Areas of Yakima County, City of Yakima, Town of Naches, Town of Selah.
| Approximately .74 miles upstream of Hwy 12 | None | +1632
Naches River Split Flow A | Approximately at Pence Road | None | +1170 | Unincorporated Areas of Yakima County.
| Approximately .57 miles upstream of Cypress Road | +1192 | +1241
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Yakima
Maps are available for inspection at 129 N. 2nd St., Yakima, WA 98901.
Town of Naches
Maps are available for inspection at 29 E. Second Street, Naches, WA 98937.
Town of Selah
Maps are available for inspection at 115 W. Naches Ave., Selah, WA 98942.
Unincorporated Areas of Yakima County
Maps are available for inspection at 128 N. 2nd St., Yakima, WA 98901.

(Catalog of Federal Domestic Assistance No. 97.022, “Flood Insurance.”)

Dated: September 29, 2008.
Michael K. Buckley,
Acting Assistant Administrator, Mitigation Directorate, Department of Homeland Security, Federal Emergency Management Agency.

[FR Doc. E8-24089 Filed 10-9-08; 8:45 am]

BILLING CODE 9110-12-P